DEPARTMENT OF THE INTERIOR

Fish and Wildlife Service

Notice of Availability of the Scaleshell Mussel (Leptodea leptodon) Draft Recovery Plan for Review and Comment

AGENCY: Fish and Wildlife Service, Interior.

ACTION: Notice of document availability.

SUMMARY: The U.S. Fish and Wildlife Service (Service) announces availability for public review of the draft recovery plan for the scaleshell mussel (Leptodea leptodon), a species that is federally listed as endangered under the Endangered Species Act of 1973 (Act), as amended (16 U.S.C. 1531 et. seq.). The purpose of this plan is to recover this species in order that it can be removed from the list of Threatened and Endangered Species. Currently, only 14 rivers support very small populations in Arkansas, Missouri, and Oklahoma. The Service solicits review and comment from the public on this draft plan.

DATES: Comments on the draft recovery plan must be received on or before September 7, 2004.

ADDRESSES: Persons wishing to review the draft recovery plan may obtain a copy by contacting the Field Supervisor, U.S. Fish and Wildlife Service, Ecological Services Field Office, 608 E. Cherry St., Room 200, Columbia, Missouri 65201-7712 (telephone (573) 876-1911) or by accessing the Web site: http://midwest.fws.gov/Endangered.

FOR FURTHER INFORMATION CONTACT: Mr. Andy Roberts at the above address and telephone (ext. 110). TTY users may contact Mr. Roberts through the Federal Relay Service at (800) 877-8339.

SUPPLEMENTARY INFORMATION:

Background

Restoring an endangered or threatened animal or plant to the point where it is again a secure self-sustaining member of its ecosystem is a primary goal of the Service's endangered species program. To help guide the recovery effort, the Service is working to prepare recovery plans for most of the federally listed threatened and endangered species native to the United States. Recovery plans describe actions considered necessary for conservation of the species, establish criteria for reclassification and delisting, and provide estimates of the time and costs for implementing the recovery measures needed.

The Act requires the development of recovery plans for listed species unless such a plan would not promote the conservation of a particular species. Section 4(f) of the Act, as amended in 1988, requires public notice and opportunity for public review and comment be provided during recovery plan development. The Service will consider all information presented during a public comment period prior to approval of each new or revised recovery plan. The Service and other Federal agencies will also take these comments into consideration in the course of implementing approved recovery plans.

The scaleshell was listed as endangered on October 9, 2001. It once occurred in 55 rivers across 13 states in the Mississippi River drainage. The species has undergone a dramatic reduction in range and has further declined in the last few decades. Currently, only 14 rivers support very small populations in Arkansas, Missouri, and Oklahoma. The scaleshell occurs in medium to large rivers with low to medium gradients. It primarily inhabits gravel or mud substrate in stable riffles and runs with moderate current velocity. The scaleshell requires good water quality and is usually found where a diversity of other mussel species are concentrated. More specific habitat requirements of scaleshell are unknown, particularly habitat requirements of the juvenile stage. Water quality degradation, sedimentation, channel instability, and habitat destruction are contributing to the decline of the scaleshell throughout its range.

The scaleshell will be considered for downlisting to threatened status when the likelihood of the species becoming extinct in the foreseeable future has been eliminated by the achievement of the following criteria: (1) Through protection of existing populations, successful establishment of reintroduced populations, or discovery of additional populations, four stream populations exist, each in a separate watershed and each made up of at least four local populations that are located in distinct areas of the stream; (2) all local populations are persistent and viable in terms of population size, age structure, and recruitment; (3) each local population and their habitat are sufficiently protected from any present and foreseeable threats that would jeopardize their continued existence; (4) tasks will be completed to determine if water quality criteria should be included as a delisting criteria and, if so, water quality criteria for delisting will be developed; and (5) measures are in place to prevent the spread of zebra mussels into habitat occupied by the scaleshell where zebra mussels have not become established.

The scaleshell will be considered for delisting when the likelihood of the species becoming threatened in the foreseeable future has been eliminated by the achievement of the following criteria: (1) Through protection of existing populations, successful establishment of reintroduced populations, or discovery of additional populations, a total of eight stream populations exist in separate watersheds, one located in the Upper Mississippi Basin, four in the Middle Mississippi River Basin (including two east of the Mississippi River), and three in the Lower Mississippi River Basin, and each of these is made up of four local and geographically distinct populations; (2) all local populations are persistent and viable in terms of population size, age structure, and recruitment; (3) each local population and their habitat are sufficiently protected from any present and foreseeable threats that would jeopardize their continued existence; (4) measures are in place to prevent the spread of zebra mussels into habitat occupied by the scaleshell where zebra mussels have not become established; and (5) water quality criteria may be added to the recovery criteria for delisting upon completion of the tasks referred to under the recovery criteria for reclassification. Additional detail on downlisting and delisting criteria is available in the draft recovery plan.

These criteria will be met through the following actions: (1) Prevent the extirpation and stabilize existing populations through artificial propagation; (2) form partnerships and use existing programs to protect remaining populations, restore habitat, and improve surface lands; (3) improve understanding of the biology and ecology of scaleshell; (4) further delineate the current status and distribution of scaleshell; (5) restore degraded habitat in areas of historical range; (6) reintroduce scaleshell into portions of its former range; (7) initiate various educational and public outreach actions to heighten awareness of the scaleshell as an endangered species and solicit help with recovery actions; and (8) track recovery and conduct periodic evaluations with respect to recovery criteria.

Public Comments Solicited

The Service solicits written comments on the draft recovery plan. All comments received by the date specified will be considered prior to approval of the plan. Written comments and materials regarding the plan should be sent to the Field Supervisor, Ecological Services Field Office (see ADDRESSES section). Comments received will be available for public inspection by appointment during normal business hours.

Authority: The authority for this action is section 4(f) of the Endangered Species Act, 16 U.S.C. 1533(f).

Dated: July 14, 2004.
Ms. Lynn Lewis,
Acting Assistant Regional Director, Ecological Services, Region 3.

[FR Doc. 04-17974 Filed 8-5-04; 8:45 am]

BILLING CODE 4310-55-P